DEPARTMENT OF COMMERCE

National Oceanic and Atmospheric Administration

[Docket No. 020325068-2068-01]

RIN 0648-ZB17

Request for Proposals for FY 2002—NOAA Educational Partnership Program With Minority Serving Institutions: Environmental Entrepreneurship Program

AGENCY: Office of Oceanic and Atmospheric Research (OAR), National Oceanic and Atmospheric Administration (NOAA). Commerce.

ACTION: Notice of request for proposals.

SUMMARY: The Office of Oceanic and Atmospheric Research (OAR) in the National Oceanic and Atmospheric Administration (NOAA), United States Department of Commerce is soliciting proposals for the NOAA Educational Partnership Program with Minority Serving Institutions (EPP/MSI): Environmental Entrepreneurship Program. The goal of the program is to strengthen the capacity of Minority Serving Institutions to foster student careers, entrepreneurship opportunities and advanced academic study in NOAA related sciences.

In Fiscal Year 2002, NOAA plans to make available a total of $3,000,000 to support the EPP/MSI Environmental Entrepreneurship Program. The program will provide funds on a competitive basis to support projects at eligible Minority Serving Institutions, for up to three years duration, in the following two categories:

(1) Program Development and Enhancement—approximately six grants or cooperative agreements, each up to $250,000 total for up to three years, to support the development and enhancement of outreach, education, applied research and training programs that will strengthen MSIs and their partners capacity to foster student careers, entrepreneurship opportunities and advanced academic study in NOAA related sciences.

(2) Environmental Demonstration Projects—approximately six grants or cooperative agreements, each up to $300,000 total for up to three years to support the engagement of MSI faculties and students in field demonstration projects focused on applying environmentally sound methods and technologies to address NOAA related environmental issues.

DATES: A Letter of Intent to aid NOAA in planning the review of proposals is requested by April 30, 2002 but is not required. Proposals must be received by 5:00 p.m. (Eastern Daylight Savings Time) on May 30, 2002 (See Section VI. Instructions for Application: Timetable).

ADDRESSES: Proposals should be submitted to: Jewel M. Griffin-Linzey, EPP/MSI Environmental Entrepreneurship Program, National Oceanic and Atmospheric Administration, Room 11877, SSMC3 (R/SG), 1315 East-West Highway, Silver Spring, MD 20910.

FOR FURTHER INFORMATION CONTACT: Jewel M. Griffin-Linzey, NOAA EPP/MSI: Entrepreneurship Program, National Oceanic and Atmospheric Administration, SSMC3 (R/SG), 1315 East-West Highway, Silver Spring, MD 20910. Tel. (301) 713-1495; e-mail: jewel.griffin-linzey@noaa.gov

SUPPLEMENTARY INFORMATION:

I. Program Authority

Authority: 15 U.S.C. 1540, 49 U.S.C. 44720, 33 U.S.C. 883a and 883d, 33 U.S.C. 1442, 16 U.S.C. 1854(e), 16 U.S.C. 661, 16 U.S.C. 753(a), 16 U.S.C. 1451 et seq., 16 U.S.C. 1431, and Executive Orders 12876, 12900 and 13021. Catalog of Federal Assistance Number: 11.481—Educational Partnership Program with Minority Serving Institutions.

II. Program Description

Background

NOAA provides science, technology, and services to describe and predict changes in the Earth's environment, and conserve and manage wisely the Nation's coastal and marine resources to ensure sustainable economic opportunities. The agency has made a commitment to expand and strengthen its partnerships with Minority Serving Institutions that will serve as a catalyst to meet its principal goals of environmental stewardship, assessment, and prediction. In accordance with NOAA's overall mission, and with the policy of NOAA and the U.S. Department of Commerce to foster environmental education, research and economic sustainability, the purposes of the NOAA EPP/MSI Environmental Entrepreneurship Program are to support:

1. Educational Opportunities. To prepare students with the necessary academic training, technical skills and experiences that will enable them to pursue careers, entrepreneurship opportunities and advanced academic study in environmental fields related to NOAA's mission.

2. Capacity Building. To develop or enhance the capacity of environmental related academic programs at MSIs in order to ensure they are effective pipelines through which students and faculty can gain the necessary experience to make environmentally and economically sound decisions.

3. Partnerships. To facilitate or strengthen MSI partnerships, where appropriate, with NOAA programs and facilities, community colleges and universities, industry, governments (state, local, commonwealth, territorial and tribal), and organizations (public, nonprofit, or private) that foster cooperative education and training activities for students and faculties.

4. Community Economic Development. To support MSIs and partners in preparing students with the necessary knowledge, skills, tools and technology that may be applied outside the classroom to ensure environmentally sustainable and economically viable local communities. The goal is to foster environmental entrepreneurship opportunities that empower students to become stewards of natural resources and the environment and to transfer knowledge gained to address environmental problems of importance in their local communities.

Rationale

The recruitment of minorities, particularly underrepresented minorities, in the fields of science and engineering, lags behind expectations. According to the most recent data compiled by the National Science Foundation (NFS), “Women, Minorities and Persons with Disabilities in Science and Engineering: 2000,” the percentage of minority scientists and engineers in the workforce ranges from 0.3 percent for American Indians to about 3.0 percent each for African-Americans and Hispanics. The quality and nature of academic experiences at each point of the educational pipeline are crucial to bringing more minorities into environmental science and engineering fields. Bachelors, Masters and Doctoral degrees are the underpinnings of environmental science career achievement and employment. At both the undergraduate and graduate levels, Hispanics, African Americans, and Native Americans complete fewer degrees, relative to their demographic composition in the population, than majority ethnic groups. At the Bachelors level, NSF data show that African Americans received about 7.4 percent of the Bachelors degrees in science and engineering in 1996, Hispanics received 6.4 percent, and American Indians/Alaskan Natives receive 0.6 percent. At the Master's level, African Americans receive about 5.0 percent of the science and engineering degrees, Hispanics about 4.0 percent, and American Indians 0.4 percent. In FY 1998, MSIs received only 5.8 percent of Department of Commerce grants to institutions of higher education.

NOAA EPP/MSI Environmental Entrepreneurship Program

The goal of the NOAA EPP/MSI Environmental Entrepreneurship Program is to strengthen the capacity of Minority Serving Institutions to foster student careers, entrepreneurship opportunities, and advanced academic study in NOAA-related sciences.

Proposals should be firmly grounded in “environmental fields” related to NOAA's mission. The term “environmental fields” is defined as those environmental, natural sciences (i.e., biology, earth sciences), physical and social sciences (i.e., economics, anthropology, geography, and history), engineering, professional and technical fields that are relevant to NOAA's mission which is to “describe and predict changes in the Earth's environment, and conserve and manage wisely the Nation's coastal and marine resources.” (See http://www.noaa.gov/)

Proposals should identify mechanisms to be employed that enhance MSIs capacity to foster student opportunities, interest in, and pursuit of careers, entrepreneurship and advanced study in NOAA-related sciences.

Proposals will be accepted that address one of the following categories:

(1) Program Development and Enhancement—approximately six grants or cooperative agreements, each up to $250,000 total for up to three years to support the development and enhancement of effective outreach, education, applied research and training programs at eligible MSIs directly related to NOAA's mission. Developing and enhancing outreach, education, applied research and training capabilities at MSIs is intended to expand opportunities for students to develop the technical skills, training, and experiences needed to pursue careers, entrepreneurship opportunities and advanced academic study in NOAA-related environmental fields. Activities funded under this element may include, but are not limited to: atmospheric, environmental and oceanic science courses and curriculum enhancement; practical learning experiences for students such as, hands-on training and applied research; and other activities designed to foster student careers, entrepreneurship opportunities and advanced academic study related to NOAA's mission.

(2) Environmental Demonstration Projects—approximately six grants or cooperative agreements, each up to $300,000 total for up to three years, to support the engagement of MSI faculty and students in demonstration projects that apply environmentally sound methods and technologies to address NOAA related environmental issues. Field demonstration projects should encourage partnerships that enable students to address challenging environmental issues such as, enhancing and restoring coastal and estuarine habitats, preventing marine pollution, reducing coastal hazards, assessing marine protected areas, protecting coral reefs, reducing the spread of invasive species, restoring fisheries and fisheries habitat, developing and expanding aquaculture, planning community waterfront revitalization, mitigating and assessing impacts of weather and climate variability, improving the prediction of weather and climate phenomena, or employing remotely sensed data and information systems to support environmental monitoring and prediction. The intent is to involve students in collaborative field projects that will empower them to pursue careers, entrepreneurship opportunities and advanced academic study, and promote environmental sustainability and economic viability in their local communities. Projects should (where appropriate) involve students with academic training across the broad array of environmental fields needed to implement field projects. Engaging students in applied research to understand the nature and extent of environmental degradation within communities and to test and monitor methods for preventing, controlling, and reducing the degradation of natural environments is encouraged.

Partnerships

For proposals submitted in the Program, applicants should build on existing expertise of academic and applied research programs, as appropriate. Innovative approaches to issues are sought that take maximum advantage of the synergies, strong linkages and collaborations with partners such as other universities, community colleges, research institutions, industry, government and nongovernmental agencies, and other organizations (public, nonprofit, or private). Partnerships should facilitate the entry of MSI students into careers such as, entrepreneurs, scientists, resource managers, and community leaders in environmental fields related to NOAA's mission. While partnerships are encouraged, where appropriate. There is no requirement for a partner or a requirement for the applicant to provide matching funds. NOAA retains the right to allocate funds differently than indicated above if the number of proposals received is not balanced across these two categories, or the proposal quality does not warrant the stated allocation. In such cases, funds may be shifted between the two funding categories.

Proposals

Proposals must be submitted by an eligible MSI (see Section III. Eligibility) and are expected to have a rigorous work plan, a strong rationale, and clearly identified and achievable goals. Proposals should emphasize innovative approaches to encouraging, preparing, and graduating MSI students trained in environmental fields and related professional career fields. Projects should strive for multiple-year participation by students and include effective use of role models and mentors. A plan for evaluating the outcome of the project should be included.

III. Eligibility

Minority Serving Institutions eligible to submit proposals include institutions of higher education identified by the Department of Education as:

(i) Historically black Colleges and Universities,

(ii) Hispanic-Serving Institutions,

(iii) Tribal Colleges and Universities, on the most recent “2001 United States Department of Education Accredited Post-Secondary Minority Institutions” list: http://www.ed.gov/offices/ocr/minorityinst.pdf

IV. Evaluation Criteria

The evaluation criteria for proposals submitted for support under the NOAA EPP/MSI Environmental Entrepreneurship Program are weighted as follows:

(1) Technical and Educational Merit (40 percent): The degree to which the activity will advance or transfer knowledge and understanding of environmental fields, education, or professional fields as they relate to NOAA's mission; the qualifications of the applicant (individual or team) to conduct the project, including the ability to involve individuals from the MSI's student population successfully in the project; the degree to which the activity explores creative and original concepts; the overall design and organization of the planned activity; the strength of the proposed partnerships, if any, to help meet the goals of the project; and the sufficiency of resources for the plan of work.

(2) Impact of Proposed Project (60 percent): The contributions the project will make to enhancing the capability of the MSI to bring education, applied research and hands-on training opportunities to its student and faculty populations in the environmental and professional fields related to NOAA's mission; the benefit accruing to a faculty member and the institution from participation in the NOAA EPP/MSI: Environmental Entrepreneurship Program; the degree to which the proposed activity develops mechanisms that will broaden and sustain the capacity of MSIs to prepare students in NOAA related environmental fields; the extent to which the proposed activity will enhance and improve outreach, education, training, and applied research at MSIs; and the adequacy of the plan for evaluating the outcome of the project. For environmental demonstration projects, the degree to which the project is expected to prevent, control, and reduce degradation to habitats will be considered.

V. Selection Procedures

An independent peer review panel comprised of a broad representation of experts in the science and MSI academic community will conduct the review of the proposals. The panel members will rank proposals in accordance with the above evaluation criteria (Section IV). The panel members will provide individual evaluations on proposals, but there will be no consensus recommendation. The panel rankings and evaluations will be considered by NOAA may also consider programmatic or geographic balance and budget availability in the final selection of proposals, hence, awards may not necessarily be made to the panel's highest-scored proposal. Unsuccessful applications will be notified and provided with feedback that can assist applicants develop improved proposals in the future. Successful applications may be asked to modify objectives, work plans, budget levels, or project duration prior to final approval of an appropriate type of financial assistance award. The award will be a grant (e.g., whereby no substantial involvement is anticipated between DOC and the recipient during the project performance) or cooperative agreement award that requires substantial involvement (e.g., collaboration, participation, or intervention by DOC in the management of the project).

VI. Instructions for Application

Timetable

April 30, 2002—Letters of Intent: To aid NOAA in planning the review of proposals, potential Principal Investigators are strongly encouraged to submit an optional Letter of Intent by April 30, 2002. Letters of Intent should be e-mailed (no attachments) to jewel. griffin-linzey@noaa.gov. Information contained should include a brief description of the scope of the work, the parties involved, and an estimated budget. The Letters of Intent should not exceed one page.

May 30, 2002—Proposals are due no later than 5 p.m. (Eastern Daylight Savings Time), May 30, 2002. (See Section VII. How to submit for further details.)

June 2002—Successful applicants can expect to be notified by the end of June 2002. Successful applicants may be asked to provide revised narratives and/or budgets that would be due before the end of June 2002.

October 1, 2002—Funds will be awarded through a grant or cooperative agreement with an expected start date of October 1, 2002.

Proposed Guidelines

All proposals should be typewritten on 8½ x 11 paper with at least a 10-point font and may not exceed 20 pages. Tables and visual materials, including charts, graphs, maps, photographs and other pictorial presentations are included in the page limitation; literature citations are not included in the page limitation. All information needed for review of the proposal should be included in the main text; no appendices are permitted. The following information should be included:

(1) Signed title page: The title page should be signed by the Principal Investigator and the institutional representative and should clearly identify the program area being addressed by starting the project title with “NOAA EPP/MSI: Environmental Entrepreneurship Program” followed by either “Program Development and Enhancement” or “Environmental Demonstration Project,” depending upon the particular type of financial assistance award for which you are applying. The Principal Investigator and institutional representative should be identified by full name, title, organization, telephone number, e-mail and mailing address. The total amount of Federal funds being requested should be listed for each budget period.

(2) Abstract: It is critical that the abstract accurately describe the essential elements of the project being proposed. The abstract should include: 1. Title: Use the exact title as it appears in the rest of the application. 2. Investigators: List the names and affiliations of each investigator who will significantly contribute to the project. Start with the Principal Investigator. 3. Funding request for each year of the project as well as total funding requested. 4. Project Period: Start and completion dates. Proposals should request a start date of October 1, 2002. 5. Objectives, Methodology, and Rationale: This should include a concise statement of the objectives of the project, the scientific or educational methodology to be used, and the rationale for the work proposed.

(3) Project Description

(a) Introduction/Background/Justification: What is the problem or opportunity being addressed and what is its scientific, technical, educational, or socioeconomic importance to the region or nation?

(b) Technical Plan: What are the goals, objectives, and anticipated approach of the proposed project? While a detailed work plan is not expected, the proposal should present evidence that there has been thoughtful consideration of the approach to the problem under study. If a partner is involved, what capabilities does the partner possess that will benefit the project, faculty member and students?

(c) Output/Anticipated Benefits: What measures will be used to evaluate the outcome of the proposed project? Upon completion of the project, what are the anticipated benefits to the MSI, its students, and the environmental community?

(d) Literature Cited: Should be included here, but does not count against the page limit.

(4) Budget and Budget Justification: Form SF424A Budget Information Non-Construction Programs and budget justification narrative are required. There should be an annual budget for each year of the project as well as a cumulative budget for the entire project. Subcontracts should have a separate budget. Each annual budget should include a separate budget justification page that itemizes all budget items in sufficient detail to enable reviewers to evaluate the appropriateness of the funding requested. (Please see the NOAA budget guidelines at http://www.rdc.noaa.gov/~grants/BUDGTGUD.PDF).

(5) Current and Pending Support: Applicants must provide information on all their current and pending Federal support for ongoing projects and proposal, including potential subsequent funding in the case of continuing grants. The proposed project and all other projects or activities using Federal assistance and requiring a portion of time of the principal investigator or other senior personnel should be included. The relationship between the proposed project and these other projects should be described, and the number of person-months per year to be devoted to the projects must be stated.

(6) Vitae (two pages maximum per investigator).

(7) Letters of commitment from partnering organizations (if applicable). Letters of commitment from partners must be included as an attachment to the application. The letters from partnering organizations should describe their commitment, identify key participants, and state briefly their role in the project.

(8) Standard Application Forms: Proposals submitted in response to this solicitation must be complete and submitted in accordance with instructions in the standard NOAA Grants Application package. Applicants may obtain all required application forms through the NOAA internet site http:/www.rdc.noaa.gov/~grants/pdf or from Ms. Arlene Simpson Porter, NOAA Grants Management Division, (301) 713-0962 ext. 152, Arlene.S.Porter@noaa.gov.

(a) Standard Form 424, Application for Federal Assistance;SF424A Budget Information Non-Construction Programs; SF424B Assurances Non-Construction, (Rev 4-88). Please note that both the Principal Investigator and an administrative contract should be identified in Section 5 of the SF424 or Section 10, applications should enter “11.481” for the CFDA Number and “NOAA Educational Partnership Program with Minority Serving Institutions” for the title. The Form must contain the original signature of an authorized representative of the applying institution.

(b) Primary Applicant Certifications. All primary applicants must submit a completed Form CD-511, “Certifications Regarding Debarment, Suspension and Other Responsibility Matters; Drug-Free Workplace Requirements and Lobbying,”and the following explanations are hereby provided:

(i) Non-Procurement Debarment and Suspension. Prospective participants (as defined at 15 CFR Part 26, Section 105) are subject to 15 CFR Part 26, “Non-Procurement Debarment and Suspension” and the related section of the certification form prescribed above applies;

(ii) Drug-Free Workplace. Grantees (as defined at 15 CFR Part 26, Section 605) are subject to 15 CFR Part 26, Subpart F, “Government-wide Requirements for Drug-Free Workplace (Grants)” and the related section of the certification form prescribed above applies;

(iii) Anti-Lobbying. Persons (as defined at 15 CFR Part 28, Section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000; and

(iv) Anti-Lobbying Disclosures. Any applicant that has paid or will pay for lobbying using any funds must submit an SF-LLL, “Disclosure of Lobbying Activities,” as required under 15 CFR Part 28, Appendix B.

(c) Lower Tier Certifications. Recipients shall require applicants/bidders for sub grants, contracts, subcontracts, or other lower tier covered transactions at any tier under the award to submit, if applicable, a completed Form CD-512, “Certifications Regarding Debarment, Suspension, Ineligibility and Voluntary Exclusion-Lower Tier Covered Transactions and Lobbying” and disclosure form, SF-LLL, “Disclosure of Lobbying Activities.” ORM CD-512 is intended for the use of recipients and should not be transmitted to the Department of Commerce (DOC). SF-LLL submitted by any tier recipient or sub recipient should be submitted to DOC in accordance with the instructions contained in the award document.

VII. How To Submit

Only three copies of the Federally required forms are needed. Although investigators are not required to submit more than three copies of the proposal, the normal review process utilizes 12 copies. If investigators wish all reviewers to receive color, unusually sized (other than 8.5 × 11″), or otherwise unusual materials submitted as part of the proposal, they should submit sufficient proposal copies for the full process.

Proposals must be received by 5 p.m. (Eastern Daylight Savings Time) on May 30, 2002. The address to send proposals to is: Jewel M. Griffin-Linzey, NOAA EPP/MSI: Environmental Entrepreneurship Program, National Oceanic and Atmospheric Administration, Room 11837, SSMC3 (R/SG), 1315 East-West Highway, Silver Spring, MD 20910. Facsimile transmissions and electronic mail submission of proposals will not be accepted.

VIII. Other Requirements

The Department of Commerce Pre-Award Notification Requirements for Grants and Cooperative Agreement contained in the Federal Register notice of October 1, 2001 (66 FR 49917) are applicable to this solicitation. However, please note that the Department of Commerce will not implement the requirements of Executive Order 13202 (66 FR 49921), pursuant to guidance issued by the Office of Management and Budget in light of a court opinion which found that the Executive Order was not legally authorized. See Building and Construction Trades Department v. Allbaugh, 172 F. Supp. 2d 138 (D.D.C. 2001). This decision is currently on appeal. When the case has been finally resolved, the Department will provide further information on implementation of Executive Order 13202.

For awards receiving funding for the collection or production of geospatial data (e.g., GIS data layers), the recipient will comply to the maximum extent practicable with E.O. 12906, Coordinating Geographic Data Acquisition and Access, The National Spatial Data Infrastructure, 59 Fed., Reg. 17671 (April 11, 1994). The award recipient shall document all new geospatial data collected or produced using the standard development by the Federal Geographic Data Center, and make that standardized documentation electronically accessible. The standard can be found at the following Internet website: (http://www.fgdc.gov/standards/standards/html).

Classification

Prior notice and an opportunity for public comments are not required by the Administrative Procedure Act or any other law for this notice concerning grants, benefits, and contracts, 5 USC 553 (a)(2). Therefore, this rule is not subject to the analytical requirements of the Regulatory Flexibility Act, 5 USC 601 et. seq.

This action has been determined to be not significant for purposes of E.O. 12866.

This notice contains collection of information requirements subject to the Paperwork Reduction Act. Standard Forms 424, 424A, 424B and SF-LLL have been approved by OMB under the respective control numbers 0348-0043, 0348-0044, 0348-0040, and 0348-0046. Notwithstanding any other provision of the law, no person is required to respond to, nor shall any person be subject to a penalty for failure to comply with, a collection of information subject to the requirements of the Paperwork Reduction Act, unless that collection of information displays a currently valid OMB Control Number.

Dated: April 4, 2002.
Louisa Koch,
Deputy Assistant Administrator, NOAA Research.

[FR Doc. 02-8554 Filed 4-8-02; 8:45 am]

BILLING CODE 3510-KD-M